SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than May 2, 2014. Individuals can obtain copies of the collection instruments by writing to the above email address.

1. Disability Update Report—20 CFR 404.1589-404.1595 and 416.988-416.996—0960-0511. As part of our statutory requirements, SSA periodically uses Form SSA-455, the Disability Update Report, to evaluate current Title II disability beneficiaries' and Title XVI disability payment recipients' continued eligibility for Social Security disability payments. Specifically, SSA uses the form to determine if: (1) There is enough evidence to warrant referring the respondent for a full medical Continuing Disability Review (CDR); (2) the respondent's impairment(s) is still present and is indicative of no medical improvement, precluding the need for a CDR; or (3) there are unresolved work-related issues for the respondent. SSA mails Form SSA-455 to specific disability recipients, whom we select as possibly qualifying for the continuing disability review process. SSA pre-fills the form with data specific to the disability recipient, except for the sections we ask the beneficiary to complete. When SSA receives the completed form, we scan it into SSA's system. This allows us to gather the information electronically to enable SSA to process the returned forms through automated decision logic to decide the proper course of action to take. The respondents are recipients of Title II and Title XVI Social Security disability payments.

Type of Request: Revision of an OMB-approved information collection.

Modality of completion | Number of respondents | Frequency of response | Average burden per response (minutes) | Estimated total annual burden (hours)
SSA-455 | 1,500,000 | 1 | 15 | 375,000

2. Request for Evidence from Doctor and Request for Evidence from Hospital—20 CFR 404 Subpart P and 20 CFR 416 Subpart I—0960-0722. Sections 223(d)(5) and 1614(a)(3)(H)(i) of the Social Security Act require claimants to furnish medical evidence of their disability when filing a disability claim. SSA uses Forms HA-66 and HA-67 to obtain evidence from medical sources identified by the claimants as having information relative to their impairments or ability to do work-related activities. In addition to accepting manual paper responses, SSA sends a barcode with the HA-66 and HA-67, allowing respondents to fax the information directly into the electronic claims folder rather than submitting it manually. SSA uses the information to determine eligibility for benefits. The respondents are medical sources, doctors, and hospitals that evaluate the claimants.

Type of Request: Revision of an OMB-approved information collection.

Modality of completion | Number of respondents | Frequency of response | Number of responses | Average burden per response (minutes) | Estimated total annual burden (hours)
HA-66—Paper | 3,060 | 22 | 67,320 | 15 | 16,830
HA-66—Electronic | 8,940 | 22 | 196,680 | 15 | 49,170
HA-67—Paper | 3,060 | 22 | 67,320 | 15 | 16,830
HA-67—Electronic | 8,940 | 22 | 196,680 | 15 | 49,170
Totals | 24,000 |  | 528,000 |  | 132,000

II. SSA submitted the information collections below to OMB for clearance. Your comments regarding the information collections would be most useful if OMB and SSA receive them 30 days from the date of this publication. To be sure we consider your comments, we must receive them no later than April 2, 2014. Individuals can obtain copies of the OMB clearance packages by writing to OR.Reports.Clearance@ssa.gov.

1. Advanced Notice of Termination of Child's Benefits & Student's Statement Regarding School Attendance—20 CFR 404.350-404.352, 404.367-404.368—0960-0105. SSA collects information on Forms SSA-1372-BK and SSA-1372-BK-FC to determine whether children of an insured worker meet the eligibility requirements for student benefits. The data we collect allows SSA to determine entitlement to initial and continuing student benefits. The respondents are student claimants for Social Security benefits, their respective schools and, in some cases, their representative payees.

Type of Request: Revision of an OMB-approved information collection.

SSA-1372-BK:

Type of respondent | Number of respondents | Frequency of response | Average burden per response (minutes) | Estimated total annual burden (hours)
Individuals/Households | 99,850 | 1 | 8 | 13,313
State/Local/Tribal Government | 99,850 | 1 | 3 | 4,993
Totals | 199,700 |  |  | 18,306

SSA-1372-BK-FC:

Type of respondent | Number of respondents | Frequency of response | Average burden per response (minutes) | Estimated total annual burden (hours)
Individuals/Households | 150 | 1 | 8 | 20
State/Local/Tribal Government | 150 | 1 | 3 | 8
Totals | 300 |  |  | 28
Grand Total | 200,000 |  |  | 18,334

2. Work History Report—20 CFR 404.1515, 404.1560, 404.1565, 416.960 and 416.3965—0960-0578. Under certain circumstances, SSA asks individuals applying for disability about work they have performed in the past. Applicants use Form SSA-3369, Work History Report, to provide detailed information about jobs held prior to becoming unable to work. State Disability Determination Services evaluate the information, together with medical evidence, to determine eligibility for disability payments. Respondents are disability applicants and third parties assisting applicants.

Type of Request: Revision of an OMB-approved information collection.

Modality of collection | Number of respondents | Frequency of response | Average burden per response (minutes) | Estimated total annual burden (hours)
SSA-3369 (Paper form) | 1,553,900 | 1 | 60 | 1,553,900
Electronic Disability Collect System 3369 | 38,049 | 1 | 60 | 38,049
Totals | 1,591,949 |  |  | 1,591,949

Dated: February 28, 2014.
Naomi Sipple,
Management Analyst, Reports Clearance, Social Security Administration.

[FR Doc. 2014-04577 Filed 2-28-14; 8:45 am]

BILLING CODE 4191-02-P